DEPARTMENT OF THE INTERIOR

National Park Service

[NPS-WASO-NAGPRA-18956; PPWOCRADN0-PCU00RP14.R50000]

Notice of Inventory Completion: Anthropology Research Collections at Texas A&M University, College Station, TX

AGENCY: National Park Service, Interior.

ACTION: Notice.

SUMMARY: The Anthropology Research Collections at Texas A&M University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Anthropology Research Collections at Texas A&M University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Anthropology Research Collections at Texas A&M University at the address in this notice by September 30, 2015.

ADDRESSES: Dr. David Carlson, NAGPRA Coordinator, Attn: Timothy S. de Smet, Interim Curator, Department of Anthropology, TAMU MS 4352, College Station, TX 77843-4352, telephone (979) 845-5242, email dcarlson@tamu.edu and tdesmet@tamu.edu.

SUPPLEMENTARY INFORMATION: Notice is here given in accordance with the Native American Graves Protection and Repatriation Act (NAGPRA), 25 U.S.C. 3003, of the completion of an inventory of human remains under the control of the Anthropology Research Collections at Texas A&M University, College Station, TX. The human remains were removed from Aycock Shelter, Bell County, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Anthropology Research Collections at Texas A&M University (ARC-TAMU) professional staff in 1995. In 2015, representatives of the Caddo Nation of Oklahoma; Comanche Nation, Oklahoma; Kickapoo Tribe of Oklahoma; Kiowa Indian Tribe of Oklahoma; Tonkawa Tribe of Indians of Oklahoma; Tunica-Biloxi Indian Tribe; and the Wichita and Affiliated Tribes (Wichita, Keechi, Waco & Tawakonie), Oklahoma, were invited to consult with ARC-TAMU for the purpose of determining the place and manner of repatriation. The Caddo Nation of Oklahoma contacted ARC-TAMU, and the Comanche Nation, Oklahoma, visited the facility; no representatives from the other tribes contacted ARC-TAMU in response to this invitation.

History and Description of the Remains

In 1985, human remains representing, at minimum, one individual were removed from Aycock Shelter/Shelter 14 (41BL28) in Bell County, TX, by the Texas A&M University Anthropology Club. The human remains from the site were identified as being from Feature 14 a and b (TAMU-NAGPRA 76). The human remains were determined to be one adult of indeterminate sex. Dart points found nearby date the human remains to the Early Ceramic period (before A.D. 700). No known individuals were identified. No associated funerary objects are present.

Based on the geographic location of the site, ARC-TAMU staff found it reasonable to trace a shared identity between the human remains in this notice and the following historic groups: Ervipiame, Mayeye, Yojuane, Comanche, Kickapoo, Tonkawa, Tunica and Biloxi, Wichita, Caddo, Waco, Anadarko, and Kiowa. Archeological and linguistic evidence, historical records, and/or traditional beliefs indicate that there is a relationship of shared group identity between these historic groups and the present-day Caddo Nation of Oklahoma; Comanche Nation, Oklahoma; Kickapoo Tribe of Oklahoma; Kiowa Indian Tribe of Oklahoma; Tonkawa Tribe of Indians of Oklahoma; Tunica-Biloxi Indian Tribe; and the Wichita and Affiliated Tribes (Wichita, Keechi, Waco & Tawakonie), Oklahoma.

Determinations Made by the Anthropology Research Collections at Texas A&M University

Officials of the ARC-TAMU have determined that:

• Pursuant to 25 U.S.C. 3001(9), the human remains described in this notice represent the physical remains of one individual of Native American ancestry.

• Pursuant to 25 U.S.C. 3001(2), there is a relationship of shared group identity that can be reasonably traced between the Native American human remains and the Caddo Nation of Oklahoma; Comanche Nation, Oklahoma; Kickapoo Tribe of Oklahoma; Kiowa Indian Tribe of Oklahoma; Tonkawa Tribe of Indians of Oklahoma; Tunica-Biloxi Indian Tribe; and the Wichita and Affiliated Tribes (Wichita, Keechi, Waco & Tawakonie), Oklahoma.

Additional Requestors and Disposition

Lineal descendants or representatives of any Indian tribe or Native Hawaiian organization not identified in this notice that wish to request transfer of control of these human remains should submit a written request with information in support of the request to Dr. David Carlson, NAGPRA Coordinator, Department of Anthropology, TAMU MS 4352, College Station, TX 77843-4352, telephone (979) 845-5242, email dcarlson@tamu.edu, by September 30, 2015. After that date, if no additional requestors have come forward, transfer of control of the human remains to the Caddo Nation of Oklahoma; Comanche Nation, Oklahoma; Kickapoo Tribe of Oklahoma; Kiowa Indian Tribe of Oklahoma; Tonkawa Tribe of Indians of Oklahoma; Tunica-Biloxi Indian Tribe; and the Wichita and Affiliated Tribes (Wichita, Keechi, Waco & Tawakonie), Oklahoma.

The ARC-TAMU is responsible for notifying the Caddo Nation of Oklahoma; Comanche Nation, Oklahoma; Kickapoo Tribe of Oklahoma; Kiowa Indian Tribe of Oklahoma; Tonkawa Tribe of Indians of Oklahoma; Tunica-Biloxi Indian Tribe; and the Wichita and Affiliated Tribes (Wichita, Keechi, Waco & Tawakonie), Oklahoma, that this notice has been published.

Dated: July 31, 2015.
Melanie O'Brien,
Manager, National NAGPRA Program.

[FR Doc. 2015-21492 Filed 8-28-15; 8:45 am]

BILLING CODE 4312-50-P